DEPARTMENT OF THE INTERIOR

Fish and Wildlife Service

Record of Decision for the Final Bison and Elk Management Plan and Environmental Impact Statement

AGENCY: Fish and Wildlife Service, Interior.

ACTION: Notice of availability.

SUMMARY: The U.S. Fish and Wildlife Service and the National Park Service, U.S. Department of the Interior, as lead agencies, announce the availability of a Record of Decision (ROD) for the final Bison and Elk Management Plan (Plan) and Environmental Impact Statement (EIS) for the National Elk Refuge and Grand Teton National Park/John D. Rockefeller, Jr., Memorial Parkway (Grant Teton National Park). The final Plan/EIS was prepared pursuant to the National Wildlife Refuge System Administration Act of 1966; as amended; the National Park Service Management Policies of 2006; and the National Environmental Policy Act (NEPA). The final Plan/EIS was prepared in cooperation with the U.S. Department of Agriculture Animal and Plant Health Inspection Service (APHIS); the U.S. Department of Agriculture Forest Service; the Department of Interior Bureau of Land Management (BLM); and the State of Wyoming Game and Fish Department (WGFD). The final Plan/EIS describes our proposal for management of the Jackson bison and elk populations within their respective jurisdictions for 15 years. The effects of six alternatives for the management of bison and elk populations for the National Elk Refuge and Grand Teton National Park are disclosed in the final Plan/EIS and are described in the ROD. We adopted and plan to implement Alternative 4—Adaptively Manage Habitat and Populations.

FOR FURTHER INFORMATION CONTACT: For further information, or to request a copy of the final Plan/EIS or the ROD, contact Laurie Shannon, Planning Team Leader, Region 6, 134 Union Boulevard, Lakewood, Colorado 80228, 303-236-4317 (Phone); 303-236-4792 (Fax); laurie_shanon@fws.gov (e-mail). Additionally, a copy of the Final Plan/EIS may be obtained by writing to: Jackson Bison and Elk Management Planning Office, P.O. Box 510, Jackson, Wyoming 83001; Telephone: 307-733-9212, or E-mail: bisonelk_planning@fws.gov or by download from the project Web site: http://www.bisonandelkplan.fws.gov.

SUPPLEMENTARY INFORMATION: The National Elk Refuge and Grand Teton National Park are located north of Jackson, Wyoming. Together with the Bridger-Teton National Forest, they make up most of the southern half of the Greater Yellowstone Ecosystem. The National Elk Refuge comprises approximately 24,700 acres, Grant Teton National Park comprises 309,995 acres, and the John D. Rockefeller Jr., Memorial Parkway is approximately 23,777 acres. The Jackson bison and elk herds make up one of the largest concentrations of free-ranging ungulates in North America. Currently, these herds number over 1,000 bison and 13,000 elk. The herds migrate across several jurisdiction boundaries, including Grant Teton National Park and southern Yellowstone National Park, Bridger-Teton National Forest, BLM resource areas, and State and private lands, before they winter primarily on the National Elk Refuge. Due to the wide range of authorities and interest, including management of resident wildlife by the State of Wyoming on many federal lands, we have used a cooperative approach to management planning involving all of the associated federal agencies and the WGFD.

The effects of six alternatives for the management of bison and elk populations for the National Elk Refuge and Grand Teton National Park are disclosed in the final Plan/EIS and are described in the ROD. Significant issues considered in the ROD include: Bison and elk populations and their ecology; restoration of habitat and management of other species of wildlife; supplemental winter feeding operations of bison and elk; disease prevalence and transmission; recreational opportunities; cultural opportunities and western traditions and lifestyles; commercial operations; and the local and regional economy.

The ROD provides the basis for our decision on the proposed Bison and Elk Management Plan. We adopted and plan to implement Alternative 4—Adaptively Manage Habitat and Populations, as described in the Final Plan/EIS, because it balances the major issues and stakeholder perspectives identified during the planning process with the purposes, missions, and management policies of the U.S. Fish and Wildlife Service and the National Park Service.

Under the proposed plan, assuming the WGFD's herd objective of 11,000 has been met, and that higher numbers of elk would use the winter range, about 5,000 elk and 500 bison will winter on the National Elk Refuge at the end of the first phase of implementation. The elk hunt on the National Elk Refuge, and elk herd reductions as needed in Grand Teton National Park, will continue. A public bison hunt will be instituted on the National Elk Refuge and managed in accordance with the State of Wyoming licensing requirements and an approved refuge hunting plan. As herd sizes and objectives are achieved, further reductions in feeding or elk numbers will occur based on established criteria developed in collaboration with WGFD. The proposed plan includes an adaptive management framework that incorporates population management, habitat restoration, public education, and monitoring into an adaptive, progressive, and collaborative approach to address habitat conservation and wildlife population management.

Public comments were requested, considered, and incorporated throughout the planning process in numerous ways. Public outreach has included public open houses, public hearings, individual outreach activities, planning update mailings, and Federal Register notices. Three previous notices were published in the Federal Register concerning this Plan/EIS (66 FR 37489-37490, July 18, 2001; 70 FR 42089-42090, July 21, 2005; and 72 FR 5078-5080, February 2, 2007).

Dated: May 14, 2007.
James J. Slack,
Deputy Regional Director, Region 6, Denver, Colorado.

[FR Doc. 07-2773 Filed 6-5-07; 8:45 am]

BILLING CODE 4310-55-M